DEPARTMENT OF JUSTICE

Antitrust Division

Notice Pursuant to the National Cooperative Research and Production Act of 1993—Connected Media Experience, Inc.

Notice is hereby given that, on March 12, 2010, pursuant to Section 6(a) of the National Cooperative Research and Production Act of 1993, 15 U.S.C. 4301 et seq. (“the Act”), Connected Media Experience, Inc. (“CMX”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: MXP4, Paris, FRANCE; Universal Music Group, Inc., Santa Monica, CA; Omediae, LLC aka Pypeline, Kapaa, HI; Opendisc, Paris, FRANCE; George White (individual), New Rochelle, NY; and Greg Kellogg (individual), San Rafael, CA. The general area of CMX's planned activity is to develop and to promote the development and adoption of open, accessible standards and specifications relating to the enhancement of end user digital media experiences (collectively, “the Specifications”), and to undertake such other activities as may from time to time be appropriate to further the purposes and achieve the goals set forth above, including without limitation, licensing, maintaining and supporting the Specifications, promoting the Specifications worldwide, providing for testing and conformity assessment of implementations in order to ensure compliance with Specifications, creating and owning distinctive trademarks, and if advisable, operating a branding program to create high customer awareness of, demand for, and confidence in products designed in compliance with Specifications.

Patricia A. Brink,
Deputy Director of Operations, Antitrust Division.

[FR Doc. 2010-8575 Filed 4-15-10; 8:45 am]

BILLING CODE 4410-11-M